DEPARTMENT OF TRANSPORTATION

Federal Aviation Administration

14 CFR Part 71

[Docket No. FAA-2005-20643; Airspace Docket No. 05-AAL-13]

Establishment of Class D Airspace; and Revision of Class E Airspace; Big Delta, Allen Army Airfield, Fort Greely, AK

AGENCY: Federal Aviation Administration (FAA), DOT.

ACTION: Final rule; correction.

SUMMARY: This action corrects an error in the airspace description contained in a Final Rule that was published in the Federal Register on Thursday, September 22, 2005 (70 FR 55531). Airspace Docket No. 05-AAL-13.

EFFECTIVE DATE: February 27, 2006.

FOR FURTHER INFORMATION CONTACT: Derril Bergt, AFSAO, Federal Aviation Administration, 222 West 7th Avenue, Box 14, Anchorage, AK 99513-7587; telephone number (907) 271-2796; fax: (907) 271-2850; e-mail: derril.bergt@faa.gov. Internet address: http://www.alaska.faa.gov/at.

SUPPLEMENTARY INFORMATION:

History

Federal Register Document FAA-2005-20643, FR Doc. 05-18931, published on Thursday, September 22, 2005 (70 FR 55531), established Class D airspace at Big Delta, Allen Army Airfield, AK. An error was discovered in the airspace description that misidentified a highway name in the description of an area excluded from the Class D Airspace. This action corrects that error.

Correction to Final Rule

Accordingly, pursuant to the authority delegated to me, the airspace description of the Class D airspace published in the Federal Register, Thursday, September 22, 2005 (70 FR 55531), (FR Doc 05-18931), page 55533, column 1) is corrected as follows:

§ 71.1 [Corrected]

* * * * *

AAL AK D Big Delta, AK [Corrected]

Big Delta, Allen AAF, AK

(Lat. 63°59′40″ N., long. 145°43′18″ W.)

Big Delta VORTAC

(Lat. 64°00′16″ N., long. 145°43′02″ W.)

Delta Junction Airport

(Lat. 64°03′02″ N., long. 145°43′02″ W.)

That airspace extending upward from the surface to and including 3,800 feet MSL within a 6.3-mile radius of the Allen AAF; excluding the portion within the boundary of restricted area 2202A, and excluding that portion at and below 700 feet above ground level from a point one-half mile south of the Delta Junction Airport (D66) extending via the 090° bearing to 1 mile east of the Richardson Highway and via the 270 bearing to 1 mile west of the Delta River; thence northwest parallel to the Richardson Highway and the Delta River, to the boundary of Class D airspace.

* * * * *

Issued in Anchorage, AK, on January 13, 2006.
Anthony M. Wylie,
Manager, Safety, Area Flight Service Operations.

[FR Doc. 06-728 Filed 1-25-06; 8:45 am]

BILLING CODE 4910-13-P